DEPARTMENT OF TRANSPORTATION

Federal Railroad Administration

Federal Transit Administration

Notice of Limitation on Claims Against Proposed Public Transportation Project

AGENCY: Federal Railroad Administration (FRA), Federal Transit Administration (FTA), U.S. Department of Transportation (DOT).

ACTION: Notice.

SUMMARY: This notice announces final environmental actions taken by FRA and FTA regarding the Hudson Tunnel Project (Project). The purpose of this notice is to announce publicly the environmental decisions on the subject project and to activate the limitation on any claims that may challenge these final environmental actions.

DATES: A claim seeking judicial review of actions announced herein for the listed public transportation project will be barred unless the claim is filed on or before December 20, 2021.

FOR FURTHER INFORMATION CONTACT: For FRA: Kathryn Johnson, Attorney-Advisor, Office of Chief Counsel, telephone: (202) 493-0407, email: kathryn.johnson@dot.gov; or Amishi Castelli, Northeast Corridor Program Manager, Office of Railroad Policy and Development, telephone: (617) 431-0416, email: amishi.castelli@dot.gov.

For FTA: John A. Sautter, Region 2 Counsel, Office of Chief Counsel, telephone: (202) 748-0700, email: john.sautter@dot.gov; or Donald Burns, Region 2 Supervisory Transportation Program Specialist, telephone: (212) 668-2203, email: donald.burns@dot.gov; or Saadat Khan, Environmental Protection Specialist, Office of Environmental Programs, telephone: (202) 366-9647, email: saadat.khan@dot.gov. FTA Region 2 is located at 1 Bowling Green, Room 428, New York, NY 10004. FTA and FRA Headquarters are located at 1200 New Jersey Avenue SE, Washington, DC 20590. Office hours for both Regional and Headquarters Offices are from 9:00 a.m. to 5:00 p.m., Monday through Friday, except Federal holidays.

SUPPLEMENTARY INFORMATION: Notice is hereby given that FRA and FTA have taken final agency action by issuing certain approvals for the public transportation project listed below. In accordance with 40 CFR 1506.3 and 23 U.S.C. 139, FRA and FTA issued a final environmental impact statement (FEIS) and record of decision (ROD) on May 28, 2021. All actions on the project, as well as the laws under which such actions were taken, are described in the documentation issued in connection with the project to comply with the National Environmental Policy Act (NEPA) as well as in documents in the FTA environmental project file. Interested parties may find more information on the Project website (http://www.hudsontunnelproject.com/) or FRA's website for the Project (https://railroads.dot.gov/environmental-reviews/hudson-tunnel-project/environmental-impact-statement).

A summary of the Project that is the subject of this notice follows:

Project name and location: Hudson Tunnel Project, Hudson River passenger rail crossing, Hudson County, New Jersey and New York County, New York.

Project Sponsor: Port Authority of New York and New Jersey, New York, New York.

Project description: The Project involves construction of a two-track tunnel under the Hudson River (the Hudson River Tunnel) and railroad infrastructure in New Jersey and New York connecting the new rail tunnel to the existing Northeast Corridor (NEC), and rehabilitation of the existing North River Tunnel. The new Hudson River Tunnel will have two new tracks extending from the NEC in Secaucus, New Jersey, beneath the Palisades (North Bergen and Union City, New Jersey) and the Hoboken/Weehawken, New Jersey waterfront area, and beneath the Hudson River to connect to the existing tracks in Penn Station New York (PSNY). The new Hudson River Tunnel will be parallel to, and south of, the existing NEC between Secaucus, New Jersey and PSNY. This alignment will extend for a distance of approximately 4.5 miles. New ventilation shafts and associated fan plants will be located above the tunnel in New Jersey and New York for regular and emergency ventilation and emergency access and egress. The western terminus of the new tunnel and related tracks and infrastructure will be at Allied Interlocking, east of County Road in Secaucus, New Jersey and the eastern terminus will be at approximately Ninth Avenue in Manhattan, New York.

This notice applies to all decisions on the Project as of the issuance date of this notice and all laws under which such actions were taken, including, but not limited to, NEPA [42 U.S.C. 4321-4375], Section 4(f) requirements [23 U.S.C. 138, 49 U.S.C. 303], Section 106 of the National Historic Preservation Act [54 U.S.C. 306108], Endangered Species Act [16 U.S.C. 1531], Clean Water Act [33 U.S.C. 1251], Clean Air Act [42 U.S.C. 7401-7671q], the Rivers and Harbors Act of 1899 (33 U.S.C. 403), and the Coastal Zone Management Act of 1972 (16 U.S.C. 1451).

Authority: 23 U.S.C. 139(l)(1).

Jamie P. Rennert,
Director, Office of Infrastructure Investment, Federal Railroad Administration.
Mark A. Ferroni,
Deputy Associate Administrator for Planning and Environment, Federal Transit Administration.

[FR Doc. 2021-15575 Filed 7-21-21; 8:45 am]

BILLING CODE 4910-57-P